DEPARTMENT OF STATE

[Public Notice: 9545]

30-Day Notice of Proposed Information Collection: Overseas Schools—Grant Status Report

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to June 3, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Keith D. Miller, Office of Overseas Schools, U.S. Department of State, 2201 C Street NW., Washington, DC 20520 and can be reached on 202-261-8200 or at millerkd2@state.gov.

SUPPLEMENTARY INFORMATION:

• Title of Information Collection: Overseas Schools—Grant Status Report.

• OMB Control Number: 1405-0033.

• Type of Request: Extension of a Currently Approved Collection.

• Originating Office: Bureau of Administration, A/OPR/OS.

• Form Number: DS-2028.

• Respondents: Overseas schools grantees.

• Estimated Number of Respondents: 195.

• Estimated Number of Responses: 195.

• Average Time per Response: 15 minutes.

• Total Estimated Burden Time: 49 hours.

• Frequency: Annually.

• Obligation to Respond: Required to obtain or retain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The Office of Overseas Schools of the Department of State (A/OPR/OS) is responsible for determining that adequate educational opportunities exist at Foreign Service Posts for dependents of U.S. Government personnel stationed abroad, and for assisting American-sponsored overseas schools to demonstrate U.S. educational philosophy and practice. The information gathered provides the technical and professional staff of A/OPR/OS the means by which obligations, expenditures and reimbursements of the grant funds are monitored to ensure the grantee is in compliance with the terms of the grant.

Methodology: The DS-2028 is in a Microsoft Excel spreadsheet, and is sent as a link to the school along with the grant documents. School officials can complete the form electronically and forward the form to post for forwarding to A/OPR/OS.

Dated: April 27, 2016.
Janice DeGarmo,
Executive Director, Bureau of Administration, Department of State.

[FR Doc. 2016-10477 Filed 5-3-16; 8:45 am]

BILLING CODE 4710-24-P